FEDERAL MARITIME COMMISSION

Ocean Transportation Intermediary License; Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/Address | Date reissued
018606N | All Merit Express, Inc., 19702 Miguel Ave., Cerritos, CA 90703 | August 17, 2009.
016258N | International Freight Consolidators, Inc., 1160 N.W. 21st Terrace, Miami, FL 33127 | July 30, 2009.

Sandra L. Kusumoto,
Director, Bureau of Certification and Licensing.

[FR Doc. E9-21679 Filed 9-8-09; 8:45 am]

BILLING CODE 6730-01-P